DEPARTMENT OF HEALTH AND HUMAN SERVICES

Administration for Children and Families

Submission for OMB Review; Federal Case Registry (FCR) (OMB #0970-0421)

AGENCY: Office of Child Support Enforcement, Administration for Children and Families, Health and Human Services (HHS).

ACTION: Request for public comment.

SUMMARY: The Administration for Children and Families (ACF) is requesting a 3-year extension of the Federal Case Registry (FCR). There are no changes to the collection instruments used for the FCR (current Office of Management and Budget (OMB) approval expires January 31, 2021).

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: ACF implemented the FCR within the Federal Parent Locator Service (FPLS) on October 1, 1998, pursuant to federal law. The FCR is a national database of information pertaining to child support cases processed by state child support agencies, referred to as “IV-D” cases, and non-IV-D support orders privately established or modified by courts or tribunals on or after October 1, 1998. FCR information is submitted by each State Case Registry (SCR), which is a central registry of child support orders and cases. The FCR automatically compares new SCR submissions to existing FCR information and notifies state agencies if an IV-D case participant in the state appears as a participant in an IV-D or non-IV-case in another state.

Respondents: State child support enforcement agencies.

Annual Burden Estimates
Instrument | Total number of respondents | Total number of responses per respondent | Average burden hours per response | Annual burden hours
Appendix G: Input Record Layout | 54 | 151 | 0.0333 | 272

Estimated Total Annual Burden Hours: 272.

Authority: The information collection activities pertaining to the FCR are authorized by: 42 U.S.C. 653(h), which requires the establishment of the FCR within the FPLS; 42 U.S.C. 654a(e), which requires state child support agencies to include a SCR in the state's automated system; and 42 U.S.C. 654a(f)(1), which requires states to conduct information comparison activities between the SCR and the FCR.

John M. Sweet Jr.,
ACF/OPRE Certifying Officer.

[FR Doc. 2020-19840 Filed 9-4-20; 8:45 am]

BILLING CODE 4184-41-P